DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 80 FR 3610 dated January 23, 2015).

This notice reflects organizational changes in the Health Resources and Services Administration (HRSA). Specifically, this notice: (1) Transfers the border health function from the Federal Office of Rural Health Policy, Office of the Associate Administrator (RH) to the Office of Planning, Analysis and Evaluation, Office of External Engagement (RA57); and (2) updates the functional statement for the Federal Office of Rural Health Policy, Office of the Associate Administrator (RH) and the Office of Planning, Analysis and Evaluation, Office of External Engagement (RA57).

Chapter RH—Federal Office of Rural Health Policy

Section RH-20, Functions

This notice reflects organizational changes within the Federal Office of Rural Health Policy. Specifically: (1) Transfers the border health function from the Federal Office of Rural Health Policy (FORHP), Office of the Associate Administrator (RH) to the Office of Planning, Analysis and Evaluation (OPAE), Office of External Engagement (RA57); and (2) updates the functional statement for the FOHRP, Office of the Associate Administrator (RH).

Office of the Associate Administrator (RH)

The Federal Office of Rural Health Policy (FORHP) is responsible for the overall leadership and management of the office. FORHP serves as a focal point within the Department of Health and Human Services (HHS) for rural health-related issues and as a principal source of advice to the Secretary for coordinating efforts to strengthen and improve the delivery of health services to populations in the nation's rural areas. FORHP provides leadership within HHS and with stakeholders in providing information and counsel related to access to, and financing and quality of, health care to rural populations. Specifically, the Office of the Associate Administrator: (1) Provides staff support to the National Advisory Committee on Rural Health and Human Services; (2) stimulates and coordinates interaction on rural health activities and programs in the Agency, Department and with other federal agencies; (3) establishes and maintains a resource center for the collection and dissemination of the latest information and research findings related to the delivery of health services in rural areas; (4) ensures successful dissemination of appropriate information technology advances, such as electronic health records systems; (5) monitors the health information technology policy and activities of other HHS components for useful application in rural areas; (6) provides overall direction and leadership over the management of nationwide community-based rural health grants programs; (7) provides overall direction and leadership over the management of a program of state grants which supports collaboration within state offices of rural health; (8) provides overall direction and leadership over the management of programs to advance the use of telehealth and coordination of health information technology; and (9) provides overall direction and leadership over the office's administrative and management functions.

Chapter RA5—Office of Planning, Analysis and Evaluation

Section RA5-20, Functions

This notice reflects organizational changes within the Office of Planning, Analysis and Evaluation. Specifically: (1) Transfers the border health function from the Federal Office of Rural Health Policy (FORHP), Office of the Associate Administrator (RH) to the Office of Planning, Analysis and Evaluation (OPAE), Office of External Engagement (RA57); and (2) updates the functional statement for the OPAE, Office of External Engagement (RA57).

Office of External Engagement (RA57)

(1) Serves as the principal Agency resource for facilitating external engagement; (2) coordinates the Agency's intergovernmental activities; (3) provides the Administrator with a single point of contact on all activities related to important state and local government, stakeholder association, and interest group activities; (4) coordinates Agency cross-Bureau cooperative agreements and activities with organizations such as the National Governors Association, National Conference of State Legislature, Association of State and Territorial Health Officials, National Association of Counties, and National Association of County and City Health Officials; (5) interacts with various commissions such as the Delta Regional Authority, Appalachian Regional Commission, and on the Denali Commission; (6) monitors HRSA's border health activities and investments to promote collaboration and improve health care access to those living along the U.S.-Mexico border; (7) serves as the primary liaison to Department intergovernmental staff; and (8) serves as the Agency liaison to manage and coordinate study engagements with the Government Accountability Office and the HHS Office of the Inspector General, Office of Evaluation and Inspections .

Delegations of Authority

All delegations of authority and re-delegations of authority made to HRSA officials that were in effect immediately prior to this reorganization, and that are consistent with this reorganization, shall continue in effect pending further re-delegation.

This reorganization is effective upon date of signature.

Dated: June 19, 2015.
James Macrae,
Acting Administrator.

[FR Doc. 2015-16169 Filed 6-30-15; 8:45 am]

BILLING CODE 4165-15-P